FEDERAL COMMUNICATIONS COMMISSION

[DA 07-2426]

Consumer Advisory Committee

AGENCY: Federal Communications Commission.

ACTION: Notice.

SUMMARY: The Commission announces the re-chartering and appointment of members to the Consumer Advisory Committee (“Committee”) of the Federal Communications Commission (“Commission”). The Commission further designates the Chairperson of the Committee, and announces the date and agenda of the Committee's first meeting in calendar year 2007. A principal focus of the Committee will be the digital television transition.

DATES: The first meeting of the new Committee will take place on Friday, August 10, 2007, 9 a.m. to 4 p.m., at the Commission's Headquarters Building, Room TW-C305, 445 12th Street, SW., Washington, DC 20554.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On June 8, 2007, the Commission released document DA 07-2426, which announced the re-chartering of its Consumer Advisory Committee, announced the appointment of twenty-six (26) members to the Committee, designated the Committee's chairperson, and further announced the agenda, date and time of the Committee's first meeting in calendar year 2007.

On June 18, 2007, the Commission released document DA 07-2683, announcing the appointment of two (2) additional Committee members.

The Committee is organized under and will operate in accordance with the provisions of the Federal Advisory Committee Act, 5 U.S.C. App. 2 (1988). On November 17, 2006, the Committee was renewed for another two-year term.

The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least fifteen (15) days in advance of the meeting. Records will be maintained of each meeting and made available for public inspection.

Functions

Digital Transition. A principal focus of the Committee will be the digital television transition as the Commission continues its efforts to assist consumers in understanding and preparing for the transition which, by law, must be completed by February 17, 2009. The Commission expects the Committee will provide specific recommendations on how best to ensure a smooth transition, as well as provide valuable insights that should further the Commission's goal of ensuring that all consumers, especially the elderly, low-income, non-English speaking consumers and people with disabilities, are aware of the transition and understand what specific steps, if any, they must take to continue watching television after the transition is complete on February 17, 2009.

Other Topics. In addition to digital television, other topics to be addressed by the Committee will include, but are not limited to, the following areas:

• Consumer protection and education (e.g., cramming, slamming, consumer friendly billing, detariffing, bundling of services, Lifeline/Linkup programs, customer service, privacy, telemarketing abuses, and outreach to underserved populations, such as Native Americans and persons living in rural areas).

• Access by people with disabilities (e.g., telecommunications relay services, video description, closed captioning, accessible billing and access to telecommunications products and services).

• Impact upon consumers of new and emerging technologies (e.g., availability of broadband, digital television, cable, satellite, low power FM, and the convergence of these and emerging technologies).

Appointment of Chairman and Members

The Commission appointed twenty-eight (28) members to its Consumer Advisory Committee. Of this number, eleven (11) represent interests of consumers, minorities, and low income communities; five (5) represent disabilities communities; six (6) represent the interest of state, local, and Native American interests, and, six (6) represent industry interests. The Committee's slate is designed to be representative of the Commission's many constituencies, and the diversity selected will provide a balanced point of view as required by the Federal Advisory Committee Act. All appointments are effective immediately and shall terminate November 17, 2008 or when the Committee is terminated, whichever is earlier.

The roster as appointed by Chairman Kevin J. Martin is as follows:

Ms. Debra Berlyn, representing the Digital Television Transition Coalition is hereby appointed as chairperson of the Committee.

Other members by organization and primary representative name include:

1. AARP—Jo Reed

2. Alaska State Department of Law—Lew Craig

3. Alliance for Community Media—Gloria Tristani

4. Appalachian Regional Commission—Harry L. Roesch

5. Benton Foundation—Charles Benton

6. Cablevision—Dodie Tschirch

7. Call For Action—Shirley Rooker

8. Communication Service for the Deaf—Karen Peltz Strauss

9. Communications Workers of America—Jeffrey Rechenbach

10. Consumer Action—Ken McEldowney

11. Consumer Electronics Association—Julie Kearney

12. Consumer Federation of America—Paul Schlaver

13. Consumers Union—Gene Kimmelman

14. Deaf and Hard of Hearing Consumer Advocacy Network—Claude Stout

15. Digital Television Transition Coalition—Debra Berlyn, Chairperson

16. Eastern Band of Cherokee Indians—Brandon Stephens

17. EchoStar Communications Corporation—Lori Kalani

18. Hawaii State Public Utilities Commission—John Cole

19. Hearing Loss Association of America—Janice Schacter

20. League of United Latin American Citizens—Eduardo Pena, Jr.

21. National Association of Broadcasters—John L. Sander

22. National Association of Regulatory Utility Commissioners—Nixyvette Santini

23. National Association of State Utility Consumer Advocates—Brenda Pennington

24. Northern VA Resource Center for Deaf and Hard of Hearing Persons—Cheryl Heppner

25. Parents Television Council—Dan Isett

26. Southern Growth Policies Board—Jim Clinton

27. The Seeing Eye, Inc.—Jay Stiteley

28. Verizon Communications, Inc.—Richard T. Ellis

Meeting Dates

On August 10, 2007, the Committee will meet to address matters of internal business and organization, such as the establishment of working groups, and will consider various consumer issues within the jurisdiction of the Commission including the digital television transition. Meetings are open to the public and are broadcast on the Internet in Real Audio/Real Video format with captioning at www.fcc.gov/cgb/cac. Members of the public may address the Committee or may send written comments to: Scott Marshall, Designated Federal Officer of the Committee, at the address indicated on the first page of this document.

The meeting site is accessible to people with disabilities. Meetings are sign language interpreted with real-time transcription and assistive listening devices available. Meeting agendas and handout materials are provided in accessible formats.

To request materials in accessible formats for people with disabilities (Braille, large print, electronic files, audio format), send an e-mail to fcc504@fcc.gov or call the Consumer & Governmental Affairs Bureau at 202-418-0530 (voice), 202-418-0432 (TTY).

Federal Communications Commission.
Nicole McGinnis,
Deputy Chief, Consumer & Governmental Affairs Bureau.

[FR Doc. E7-13918 Filed 7-17-07; 8:45 am]

BILLING CODE 6712-01-P